DEPARTMENT OF THE INTERIOR

Office of Insular Affairs; Solicitation of Comments

AGENCY: Office of Insular Affairs, U.S. Department of the Interior.

SUMMARY: The U.S. Department of the Interior's Office of Insular Affairs will make available for comment its draft report produced pursuant to sec. 251 of the Energy Policy Act of 2005 (Pub. L. 109-58), concerning power utilities and energy usage in the U.S.-affiliated insular areas. These areas include the territories of Guam, American Samoa, the Commonwealth of the Northern Mariana Islands, and American Samoa, as well as the freely associated states of the Republic of Palau, the Republic of the Marshall Islands, and the Federated States of Micronesia. The report was produced in consultation with the consultation with the U.S. Department of Energy. The draft report will be available on the Web site of the Department of the Interior's Office of Insular Affairs; the comments will be used to produce the final draft of the report by the end of FY 2006.

DATES: Please submit all comments in writing on or before September 27, 2006. There will be no second opportunity to submit comments.

ADDRESSES: The draft report is available on the Office of Insular Affairs Web site, http://www.doi.gov/oia/. Submit electronic comments to joseph_gecan@ios.doi.gov; see Supplemental Information or instructions on formatting. Address written comments to the attention of the Energy Policy Act Team, U.S. Department of the Interior, Office of Insular Affairs, 1849 C St. NW., Mailstop 4311-A, Washington, DC 20240.

FOR FURTHER INFORMATION CONTACT: Joseph Gean, (202) 208-4736.

SUPPLEMENTARY INFORMATION: Any electronic comments should be submitted in Word, WordPerfect, or PDF document formats only.

Dated: August 21, 2006.
R. Thomas Weimer,
Assistant Secretary—Policy, Management, and Budget.

[FR Doc. 06-7193 Filed 8-25-06; 8:45 am]

BILLING CODE 4310-93-M